DEPARTMENT OF COMMERCE

Foreign-Trade Zones Board

[Order No. 1794]

Approval for Expanded Manufacturing Authority; Foreign-Trade Subzone 158D Nissan North America, Inc.; (Motor Vehicles) Canton, MS

Pursuant to its authority under the Foreign-Trade Zones Act of June 18, 1934, as amended (19 U.S.C. 81a-81u), the Foreign-Trade Zones Board (the Board) adopts the following Order.

Whereas, Nissan North America, Inc. (NNA), operator of Subzone 158D, has requested an expansion of the scope of manufacturing authority within Subzone 158D in Canton, Mississippi, and authority to shift production between Subzone 158D and Subzone 78A, as needed, provided that NNA's combined activity at the two subzones remains consistent with the products, components and production capacity authorized individually for Subzone 158D and Subzone 78A (FTZ Docket 14-2011, filed 2-22-2011);

Whereas, notice inviting public comment has been given in the Federal Register (76 FR 11196, 3/1/2011) and the application has been processed pursuant to the FTZ Act and the Board's regulations; and

Whereas, the Board adopts the findings and recommendations of the examiner's report, and finds that the requirements of the FTZ Act and Board's regulations are satisfied, and that the proposal is in the public interest;

Now, therefore, the Board hereby orders:

The application to expand the scope of manufacturing authority under zone procedures within Subzone 158D and to shift authorized production between Subzone 158D and Subzone 78A, as described in the application and Federal Register notice, is approved, subject to the FTZ Act and the Board's regulations, including Section 400.28.

Signed at Washington, DC, this 24th day of October 2011.
Ronald K. Lorentzen,
Deputy Assistant Secretary for Import Administration, Alternate Chairman, Foreign-Trade Zones Board.

[FR Doc. 2011-28326 Filed 10-31-11; 8:45 am]

BILLING CODE P